INTERNATIONAL TRADE COMMISSION

[Investigation No. 731-TA-1073 (Final)]

Certain Circular Welded Carbon Quality Line Pipe From China

AGENCY: United States International Trade Commission.

ACTION: Notice of termination of antidumping duty investigation.

SUMMARY: On December 14, 2004, the U.S. Department of Commerce notified the Commission of the termination of its antidumping duty investigation on certain circular welded carbon quality line pipe from China. Accordingly, the Commission gives notice that its antidumping duty investigation concerning such line pipe from China (Investigation No. 731-TA-1073 (Final)) is terminated.

EFFECTIVE DATE: December 14, 2004.

FOR FURTHER INFORMATION CONTACT: Fred Ruggles (202) 205-3187 or via e-mail fred.ruggles@usitc.gov), Office of Investigations, U.S. International Trade Commission, 500 E Street, SW., Washington, DC 20436. Hearing-impaired persons can obtain information on this matter by contacting the Commission's TDD terminal on (202) 205-1810. Persons with mobility impairments who will need special assistance in gaining access to the Commission should contact the Office of the Secretary at (202) 205-2000. General information concerning the Commission may also be obtained by accessing its Internet server (http://www.usitc.gov). The public record for these investigations may be viewed on the Commission's electronic docket (EDIS) at http://edis.usitc.gov.

By order of the Commission.
Issued: December 15, 2004.
Marilyn R. Abbott,
Secretary to the Commission.

[FR Doc. 04-27804 Filed 12-17-04; 8:45 am]

BILLING CODE 7020-02-P